DEPARTMENT OF COMMERCE

National Oceanic and Atmospheric Administration

RIN 0648-XD224

Marine Mammals; File No. 18537

AGENCY: National Marine Fisheries Service (NMFS), National Oceanic and Atmospheric Administration (NOAA), Commerce.

ACTION: Notice; receipt of application for permit amendment.

SUMMARY: Notice is hereby given that the Alaska Department of Fish and Game (ADF&G), Division of Wildlife Conservation, Juneau, AK [Responsible Party: Robert Small, Ph.D.], has applied for an amendment to Scientific Research Permit No. 18537.

DATES: Written, telefaxed, or email comments must be received on or before March 9, 2016.

ADDRESSES: The application and related documents are available for review by selecting “Records Open for Public Comment” from the “Features” box on the Applications and Permits for Protected Species home page, https://apps.nmfs.noaa.gov, and then selecting File No. 18537 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Amy Sloan, (301) 427-8401.

SUPPLEMENTARY INFORMATION: The subject amendment to Permit No. 18537 is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR 222-226), and the Fur Seal Act of 1966, as amended (16 U.S.C. 1151 et seq.).

Permit No. 18537, issued on August 8, 2014 (79 FR 19578), authorizes takes of Steller sea lions during aerial, vessel, and ground surveys in support of the long-term Steller sea lions research program. It also authorizes incidental disturbance of California sea lions (Zalophus californianus), and northern fur (Callorhinus ursinus), harbor (Phoca vitulina), spotted (Phoca largha), ribbon (Histriophoca fasciata), ringed (Phoca hispida hispida), and bearded (Erignathus barbatus) seals during research activities, and annual unintentional mortality of 5 Steller sea lions from the Western Distinct Population Segment (wDPS) and 10 Steller sea lions from the Eastern DPS. See tables in permit for numbers of takes by species, stock and activity. The permit is valid through August 31, 2019.

The permit holder is requesting the permit be amended to increase the number of California and Steller (wDPS) sea lions taken during aerial surveys from 4,725 to 10,000, and from 48,000 to 75,000, respectively. The request is in response to observed trends within recent years of increasing northerly movement of California sea lions, and as a result of this, an increase in observed animals in the current research area. In addition, the use of more sophisticated equipment has provided better resolution and quality of images taken, and, therefore, higher differentiation among pinnipeds observed. The permit holder also requests authorization to increase the volume on a single blood draw from Steller sea lions from up to 1 ml/kg to up to 4 ml/kg. The increase would support research projects related to the impacts of contaminants on immune and endocrine parameters in young Steller sea lions.

In compliance with the National Environmental Policy Act of 1969 (42 U.S.C. 4321 et seq.), an initial determination has been made that the activities proposed are consistent with the Preferred Alternative in the Final Programmatic Environmental Impact Statement for Steller Sea Lion and Northern Fur Seal Research (NMFS 2007), and that issuance of the permit would not have a significant adverse impact on the human environment.

Concurrent with the publication of this notice in the Federal Register, NMFS is forwarding copies of this application to the Marine Mammal Commission and its Committee of Scientific Advisors.

Dated: February 2, 2016.
Dr. Perry F. Gayaldo,
Deputy Director, Office of Protected Resources, National Marine Fisheries Service.

[FR Doc. 2016-02385 Filed 2-5-16; 8:45 am]

BILLING CODE 3510-22-P